DEPARTMENT OF COMMERCE

International Trade Administration

[A-489-829]

Steel Concrete Reinforcing Bar From the Republic of Turkey: Preliminary Results of Antidumping Duty Administrative Review and Preliminary Determination of No Shipments; 2019-2020

AGENCY: Enforcement and Compliance, International Trade Administration, Department of Commerce.

SUMMARY: The Department of Commerce (Commerce) preliminarily determines that producers or exporters of steel concrete reinforcing bar (rebar) from the Republic of Turkey (Turkey) subject to this review made sales of subject merchandise at less than normal value during the period of review (POR) July 1, 2019, through June 30, 2020. Additionally, we preliminarily find that one producer/exporter, Colakoglu Metalurji A. S. (Colakoglu Metal), did not make sales of subject merchandise at less than normal value during the POR and one company, Habas Sinai ve Tibbi Gazlar Istihsal Endüstrisi A.S (Habas), made no shipments during the POR.

DATES: Applicable August 6, 2021.

FOR FURTHER INFORMATION CONTACT: Robert Copyak or Thomas Dunne, AD/CVD Operations, Office VII, Enforcement and Compliance, International Trade Administration, U.S. Department of Commerce, 1401 Constitution Avenue NW, Washington, DC 20230; telephone: (202) 482-3642 or (202) 482-2328, respectively.

SUPPLEMENTARY INFORMATION:

Background

On July 14, 2017, Commerce published the antidumping duty order on rebar from Turkey.¹ On September 3, 2020, in accordance with 19 CFR 351.221(c)(1)(i), Commerce initiated an administrative review of the Order, covering nine companies.² On October 6, 2020, Commerce selected Colakoglu Metal and Kaptan Demir Celik Endüstrisi ve Ticaret A.S. (Kaptan Demir) as the mandatory respondents for this review.³ On March 15, 2021, pursuant to section 751(a)(3)(A) of the Tariff Act of 1930, as amended (the Act), and 19 CFR 351.213(h)(2), Commerce extended the time limit for issuing the preliminary results of this administrative review to July 30, 2021.⁴

¹ See Steel Concrete Reinforcing Bar from the Republic of Turkey and Japan: Amended Final Affirmative Antidumping Duty Determination for the Republic of Turkey and Antidumping Duty Orders, 82 FR 32532 (July 14, 2017) (Order).

² See Initiation of Antidumping and Countervailing Duty Administrative Reviews, 85 FR 54983 (September 3, 2020).

³ See Memorandum, “Respondent Selection Memorandum for Administrative Review of Antidumping Duty Order on Steel Concrete Reinforcing Bar from the Republic of Turkey; 2019-2020,” dated October 6, 2020.

⁴ See Memorandum, “Steel Concrete Reinforcing Bar from the Republic of Turkey: Extension of Deadline for Preliminary Results of Antidumping Duty Administrative Review,” dated March 15, 2021.

Scope of the Order

The product covered by the Order is steel concrete reinforcing bar from Turkey. For a full description of the scope, see the Preliminary Decision Memorandum.⁵

⁵ See Memorandum, “Decision Memorandum for Preliminary Results of the Antidumping Duty Administrative Review: Steel Concrete Reinforcing Bar from the Republic of Turkey; 2019-2020,” dated concurrently with, and hereby adopted by, this notice (Preliminary Decision Memorandum).

Methodology

Commerce is conducting this review in accordance with section 751(a) of the Act. Export price and constructed export price are calculated in accordance with section 772 of the Act. Normal value is calculated in accordance with section 773 of the Act. For a full description of the methodology underlying these preliminary results, see the Preliminary Decision Memorandum. A list of topics discussed in the Preliminary Decision Memorandum is attached as an appendix to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at http://enforcement.trade.gov/frn/.

Preliminary Determination of No Shipments

On September 6, 2020, Habas submitted a letter certifying that it had no exports or sales of subject merchandise into the United States during the POR.⁶ U.S. Customs and Border Protection (CBP) did not have any information to contradict this claim of no shipments during the POR.⁷ Therefore, we preliminarily determine that Habas did not have any shipments of subject merchandise during the POR. Consistent with Commerce's practice, we will not rescind the review with respect to Habas but will complete the review and issue instructions to CBP based on the final results.⁸

⁶ See Habas' Letter, “Steel Concrete Reinforcing Bar from Turkey; Habas No Shipment Letter,” dated September 6, 2020.

⁷ See Memorandum, “Administrative Review of the Antidumping Duty Order on Steel Concrete Reinforcing Bar from Turkey: Release of U.S. Customs and Border Protection Entry Data for Respondent Selection,” dated September 16, 2020.

⁸ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014).

Rates for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero or de minimis margins, and any margins determined entirely {on the basis of facts available}.”

We calculated a preliminary weighted-average dumping margin of 0.00 percent for Colakoglu Metal and 1.05 percent for Kaptan Demir the POR. For the four companies not selected for individual examination, Commerce assigned the rate of 1.05 percent, which is the weighted-average dumping margin calculated for Kaptan Demir, because it is the only dumping margin calculated for a mandatory respondent in this administrative review that is not zero or de minimis.

Preliminary Results of This Review

As a result of this review, we preliminarily determine the following estimated weighted-average dumping margins for the period July 1, 2019, through June 30, 2020:

⁹ For the purposes of these preliminary results, we are collapsing Colakoglu Metalurji A.S. and Colakoglu Dis Ticaret A.S. and treating them as a single entity; see Preliminary Decision Memorandum.

¹⁰ For the purposes of these preliminary results, we are collapsing Kaptan Demir and Kaptan Metal Dis Ticaret Ve Nakliyat A.S. and treating them as a single entity; see Preliminary Decision Memorandum.

¹¹ This rate is based on the rates for the respondents that were selected for individual review, excluding rates that are zero, de minimis, or based entirely on facts available. See section 735(c)(5)(A) of the Act.

Producers/exporters | Estimated weighted-average dumping margin (percent)
Colakoglu Metalurji A.S./Colakoglu Dis Ticaret A.S. ⁹ | 0.00
Kaptan Demir Celik Endüstrisi ve Ticaret A.S./Kaptan Metal Dis Ticaret Ve Nakliyat A.S.¹⁰ | 1.05
Review-Specific Average Rate Applicable to the Following Companies: ¹¹
Icdas Celik Enerji Tersane ve Ulasim Sanayi A.S | 1.05
Kroman Celik Sanayi A.S | 1.05
Yücel Boru Ithalat-Ihracat ve Pazarlama A.S | 1.05
Diler Dis Ticaret A.S | 1.05

Disclosure and Public Comment

Commerce intends to disclose its calculations performed within five days of the date of publication of this notice in accordance with 19 CFR 351.224(b). Commerce will announce the briefing schedule to interested parties at a later date. Interested parties may submit case briefs on the deadline that Commerce will announce. Rebuttal briefs, limited to issues raised in case briefs, may be submitted no later than seven days after the deadline date for case briefs.¹² Pursuant to 19 CFR 351.309(c)(2) and (d)(2), parties who submit case briefs or rebuttal briefs in this review are encouraged to submit with each argument: (1) A statement of the issue; (2) a brief summary of the argument; and (3) a table of authorities. Executive summaries should be limited to five pages total, including footnotes. Case and rebuttal briefs should be filed using ACCESS ¹³ and must be served on interested parties.¹⁴ Note that Commerce has temporarily modified certain of its requirements for serving documents containing business proprietary information, until further notice.¹⁵

¹² See 19 CFR 351.309(c)(1)(ii) and 351.309(d)(1).

¹³ See 19 CFR 351.303 (for general filing requirements).

¹⁴ See 19 CFR 351.303(f).

¹⁵ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. An electronically-filed document must be received successfully in its entirety by ACCESS by 5:00 p.m. Eastern Time within 30 days after the date of publication of this notice. Requests should contain: (1) The party's name, address, and telephone number; (2) the number of participants; (3) whether any participant is a foreign national; and (4) a list of issues parties intend to discuss. Issues raised in the hearing will be limited to those raised in the respective case and rebuttal briefs.¹⁶ If a request for a hearing is made, Commerce intends to hold the hearing at a time and date to be determined.¹⁷ Parties should confirm by telephone the date, time, and location of the hearing two days before the scheduled date.

¹⁶ See 19 CFR 351.310(c).

¹⁷ See 19 CFR 351.310(c).

Assessment Rates

Upon completion of the administrative review, Commerce shall determine, and U.S. CBP shall assess, antidumping duties on all appropriate entries covered by this review.

For any individually examined respondents whose weighted-average dumping margin is above de minimis (i.e., 0.50 percent), we will calculate importer-specific ad valorem duty assessment rates based on the ratio of the total amount of dumping calculated for the importer's examined sales to the total entered value of those same sales in accordance with 19 CFR 351.212(b)(1).¹⁸ For entries of subject merchandise during the POR produced by each respondent for which it did not know its merchandise was destined for the United States, we will instruct CBP to liquidate such entries at the all-others rate if there is no rate for the intermediate company(ies) involved in the transaction.¹⁹ Where either the individually-selected respondent's weighted-average dumping margin is zero or de minimis, or an importer-specific assessment rate is zero or de minimis, we will instruct CBP to liquidate the appropriate entries without regard to antidumping duties.

¹⁸ In these preliminary results, Commerce applied the assessment rate calculation methodology adopted in Antidumping Proceedings: Calculation of the Weighted-Average Dumping Margin and Assessment Rate in Certain Antidumping Proceedings: Final Modification, 77 FR 8101 (February 14, 2012).

¹⁹ See Antidumping and Countervailing Duty Proceedings: Assessment of Antidumping Duties, 68 FR 23954 (May 6, 2003).

For the companies which were not selected for individual review, we intend to assign an assessment rate based on the methodology described in the “Rates for Non-Examined Companies” section.

The final results of this review shall be the basis for the assessment of antidumping duties on entries of merchandise covered by this review where applicable.

Consistent with its recent notice, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) The cash deposit rate for the companies under review will be the rate established in the final results of this review (except, if the ad valorem rate is de minimis, then the cash deposit rate will be zero); (2) for previously reviewed or investigated companies not covered in this review, the cash deposit rate will continue to be the company-specific rate published for the most recently-completed segment of this proceeding in which the company was reviewed; (3) if the exporter is not a firm covered in this review, a prior review, or the original investigation, but the producer is, the cash deposit rate will be the rate established for the most recently-completed segment of this proceeding for the producer of subject merchandise; and (4) the cash deposit rate for all other manufacturers or exporters will continue to be 7.26 percent, the all-others rate established in the investigation.²⁰ These cash deposit requirements, when imposed, shall remain in effect until further notice.

²⁰ See Order, 82 FR at 32533.

Final Results of Review

Unless otherwise extended, Commerce intends to issue the final results of this administrative review, including the results of our analysis of issues raised by the parties in the written comments, within 120 days of publication of these preliminary results, pursuant to section 751(a)(3)(A) of the Act and 19 CFR 351.213(h)(1).

Notification to Importers

This notice serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of doubled antidumping duties.

Notification to Interested Parties

The preliminary results of review are issued and published in accordance with sections 751(a)(1) and 777(i)(1) of the Act, and 19 CFR 351.221(b)(4).

Dated: July 30, 2021.
Christian Marsh,
Acting Assistant Secretary for Enforcement and Compliance.

Appendix—List of Topics Discussed in the Preliminary Decision Memorandum

I. Summary

II. Background

III. Scope of the Order

IV. Companies Not Selected for Individual Examination

V. Preliminary Determination of No Shipments

VI. Affiliation and Single Entity

VII. Discussion of the Methodology

VIII. Currency Conversion

IX. Recommendation

[FR Doc. 2021-16842 Filed 8-5-21; 8:45 am]

BILLING CODE 3510-DS-P